DEPARTMENT OF DEFENSE

Department of the Army; Corps of Engineers

Withdrawal of Notice of Intent To Prepare a Draft Supplemental Environmental Impact Statement for the Greenup Locks and Dam, General Reevaluation Report, Greenup County, KY

AGENCY: Department of the Army, U.S. Army Corps of Engineers, DOD.

ACTION: Notice of intent; withdrawal.

SUMMARY: The U.S. Army Corps of Engineers (Corps), Huntington District, is withdrawing its intent to prepare a Draft Supplemental Environmental Impact Statement (SEIS) for the Greenup Locks and Dam General Reevaluation Report. The Notice of Intent to prepare the SEIS was published in the Federal Register on June 14, 2012 (77 FR 35663).

FOR FURTHER INFORMATION CONTACT: Mr. Andrew Johnson, Acting Chief, Environmental Analysis Section, U.S. Army Corps of Engineers, Huntington District, 502 Eighth Street, Huntington, WV 25701-2070. Telephone: (304) 399-5189. Email: Andrew.N.Johnson@usace.army.mil.

SUPPLEMENTARY INFORMATION: Originally, the Huntington District planned to prepare a General Reevaluation Report (GRR) and Draft SEIS to disclose potential impacts to the natural, physical, and human environment resulting from the implementation of alternatives to reduce foreseeable traffic delays and associated economic losses that occur during periodic maintenance at the Greenup Locks and Dam located on the Ohio River. A Feasibility Report and Environmental Impact Statement (EIS) was previously completed for the project in April 2000. This study recommended a 600-foot (ft) extension of the existing auxiliary lock chamber to a length of 1200 ft. The project was authorized by Congress in 2000; however, no funds have been appropriated for project construction. Due to the amount of time that has elapsed since completion of the Feasibility Report, and the associated economic, environmental and reliability changes that may have occurred during this time, Federal interest must be reevaluated. The project alternatives which were planned to be considered included the plans considered in the previous study as well as variations to these plans which may include both structural and nonstructural operational measures, and the No Action alternative.

As part of this GRR, a Planning Charette was held in February 2013 with participation by the USACE Lakes and Rivers Division, Headquarters, and navigation stakeholders. Changes in the without project condition associated with revised reliability, updated traffic forecasts, funding constraints of the Inland Waterways Trust Fund, and higher priority inland navigation projects led the Charette team to recommend postponing this GRR. Therefore, an EIS is not anticipated at this time. Should the Corps start working on the GRR in the future, the scope and level of effort will be reevaluated.

Leon F. Parrott,
Colonel, Corps of Engineers, District Engineer.

[FR Doc. 2014-03740 Filed 2-21-14; 8:45 am]

BILLING CODE 3720-58-P